DEPARTMENT OF COMMERCE

International Trade Administration

[A-570-506][A-201-504][A-583-508]

Continuation of Antidumping Duty Orders: Porcelain-on-Steel Cooking Ware From China, Mexico, and Taiwan

AGENCY: Import Administration, International Trade Administration, Department of Commerce.

ACTION: Notice of continuation of antidumping duty orders: Porcelain-on-steel cooking ware from China, Mexico, and Taiwan.

SUMMARY: The Department of Commerce (“the Department”), pursuant to sections 751(c) and 752 of the Tariff Act of 1930, as amended (“the Act”), determined that revocation of the antidumping duty orders on porcelain-on-steel (“POS”) cooking ware from China, Mexico, and Taiwan are likely to lead to continuation or recurrence of dumping.¹ On April 5, 2000, the International Trade Commission (“the Commission”), pursuant to section 751(c) of the Act, determined that revocation of the antidumping duty orders on POS cooking ware from China, Mexico, and Taiwan would be likely to lead to continuation or recurrence of material injury to an industry in the United States within a reasonably foreseeable time (65 FR 17902). Therefore, pursuant to 19 CFR 351.218(f)(4), the Department is publishing notice of the continuation of the antidumping duty orders on POS cooking ware from China, Mexico, and Taiwan.

¹ See Final Results of Expedited Sunset Review: Porcelain-on-Steel Cooking Ware From the People's Republic of China, 64 FR 50271 (September 16, 1999), Final Results of Full Sunset Review: Porcelain-on-Steel Cooking Ware From Mexico, 65 FR 281 (January 4, 2000), and Final Results of Expedited Sunset Review: Porcelain-on-Steel Cooking Ware From Taiwan, 64 FR 50487 (September 17, 1999).

Effective Date: May 14, 2000.

For Further Information Contact: Martha V. Douthit or Carole A. Showers, Office of Policy for Import Administration, International Trade Administration, U.S. Department of Commerce, 14th Street and Constitution Ave., NW, Washington, D.C. 20230; telephone: (202) 482-5050 or (202) 482-3217, respectively.

SUPPLEMENTARY INFORMATION

Background

On February 1, 1999, the Department initiated, and the Commission instituted, sunset reviews (64 FR 4840 and 64 FR 4896, respectively) of the antidumping duty orders on POS cooking ware from China, Mexico, and Taiwan pursuant to section 751(c) of the Act. As a result of its reviews, the Department found that revocation of the antidumping duty orders would likely lead to continuation or recurrence of dumping and notified the Commission of the magnitude of the margin likely to prevail were the order to be revoked (see Final Results of Expedited Sunset Review: Porcelain-on-Steel Cooking Ware from the People's Republic of China, 64 FR 50271 (September 16, 1999), Final Results of Full Sunset Review: Porcelain-on-Steel Cooking Ware from Mexico, 65 FR 281, (January 4, 2000), and Final Results of Expedited Sunset Review: Porcelain-on-Steel Cooking Ware from Taiwan, 64 FR 50487, (September 17, 1999)).

On April 5, 2000, the Commission determined, pursuant to section 751(c) of the Act, that revocation of the antidumping duty orders on POS cooking ware from China, Mexico, and Taiwan would be likely to lead to continuation or recurrence of material injury to an industry in the United States within a reasonably foreseeable time (see Porcelain-on Steel Cooking Ware from China, Mexico, and Taiwan, 65 FR 17902 (April 5, 2000) and USITC Publication 3286, Investigation Nos. 731-TA-297-299 (Review), March 2000).

Scope

China—Imports covered by this order are shipments of POS cooking ware from China, including tea kettles, which do not have self-contained electric heating elements. All of the foregoing are constructed of steel and are enameled or glazed with vitreous glasses. The merchandise is currently classifiable under the Harmonized Tariff Schedule (“HTS”) number 7323.94.00.

Mexico—Imports covered by this order are shipments of POS cooking ware from Mexico, which includes tea kettles, that do not have self-contained electric heating elements. All of the foregoing are constructed of steel and are enameled or glazed with vitreous glasses. This merchandise is currently classifiable under HTS number 7323.94.00. Kitchenware currently entering under HTS number 7323.94.00.30 is not subject to the order.

Taiwan—Imports covered by this order are shipments of POS cooking ware from Taiwan. The product under this antidumping duty order does not have self-contained electric heating elements. All of the foregoing are constructed of steel and are enameled or glazed with vitreous glasses. Kitchenware and teakettles are not subject to this order. The merchandise is currently classifiable under the HTS number 7323.94.00.

The following are Notices of Scope Rulings with respect to Taiwan. On October 30, 1996, Cost Plus, Inc.'s 10 piece porcelain-on-steel fondue set was found to be within the scope of the order (see Notice of Scope Rulings, 62 FR 9176 (February 28, 1992)). On August 18, 1995, Blair Corporation's Blair cooking ware items #1101 (seven piece cookware set), #271911 (eight-quart stock pot), and #271921 (twelve-quart stock pot) were found to be outside the scope of the order (see Notice of Scope Rulings, 60 FR 36782 (July 18, 1995)). On September 3, 1992, in response to a request from Mr. Stove Ltd., stove top grills and drip pans were found to be outside the scope of the order (see Notice of Scope Rulings, 57 FR 57420 (December 4, 1992)). On September 25, 1992, in response to a request from Metrokane Inc., the “Pasta Time” pasta cooker was found to be within the scope of the order (see Notice of Scope Rulings, 57 FR 57420 (December 4, 1992)). On August 23, 1990, in response to a request from RSVP, BBQ grill baskets were found to be outside the scope of the order (see Notice of Scope Rulings, 55 FR 43020 (October 25, 1990)).

Determination

As a result of the determinations by the Department and the Commission that revocation of the antidumping duty orders on POS cooking ware from China, Mexico, and Taiwan would be likely to lead to continuation or recurrence of dumping and material injury to an industry in the United States, pursuant to section 751(d)(2) of the Act, the Department hereby orders the continuation of the antidumping duty orders on POS cooking ware from China, Mexico, and Taiwan. The Department will instruct the U.S. Customs Service to continue to collect antidumping duty deposits at the rates in effect at the time of entry for all imports of subject merchandise. The effective date of continuation of these orders will be the date of publication in the Federal Register of this Notice of Continuation. Pursuant to sections 751(c)(2) and 751 (c)(6)(A) of the Act, the Department intends to initiate the next five-year review of these orders not later than March 2005.

Dated: April 7, 2000.
Joseph A. Spetrini,
Acting Assistant Secretary for Import Administration.

[FR Doc. 00-9374 Filed 4-13-00; 8:45 am]

BILLING CODE 3510-DS-P